DEPARTMENT OF DEFENSE

Department of the Army; Corps of Engineers

Notice of Availability of the Draft Environmental Impact; Report/Environmental Impact Statement for the Carryover Storage and San Vicente Dam Raise Project, San Diego County, CA

AGENCY: U.S. Army Corps of Engineers, DOD.

ACTION: Notice of availability; correction.

SUMMARY: The U.S. Army Corps of Engineers published a Notice of Availability in the Federal Register of August 24, 2007, for a Draft Environmental Impact Report/Environmental Impact Statement for the Carryover Storage and San Vicente Dam Raise Project. The document contained incorrect dates.

FOR FURTHER INFORMATION CONTACT: Mr. Robert R. Smith, Regulatory Project Manager, U.S. Army Corps of Engineers, Rancho Bernardo Branch Office, at (858) 674-6784; or Ms. Kelley Gage, Senior Water Resources Specialist, San Diego County Water Authority, at (858) 522-6763.

Correction

In the Federal Register of August 24, 2007, in FR Doc. E7-16696, on page 48623, in the first column, the correct date for the public hearing to be held at Valley Center High School is October 4, 2007.

On page 48623, in the sixth full paragraph of the first column, the correct end date of the comment period is October 9, 2007.

Dated: August 29, 2007.
David B. Olson,
Federal Register Liaison Officer, U.S. Army Corps of Engineers.

[FR Doc. E7-17439 Filed 8-31-07; 8:45 am]

BILLING CODE 3710-KF-P